POSTAL SERVICE

39 CFR Part 20

International Mailing Services: Price Changes and Minor Classification Changes

AGENCY: Postal Service™.

ACTION: Final action.

SUMMARY: On October 7, 2022, the Postal Service published notice of price adjustments and minor classification changes with the Postal Regulatory Commission (PRC). The Postal Regulatory Commission (PRC) concluded that price adjustments and classification changes contained in the Postal Service's notification may go into effect on January 22, 2023. The Postal Service will revise Notice 123, Price List, to reflect the new prices. In addition, the Postal Service will update country names throughout mailing standards of the United States Postal Service, International Mail Manual (IMM®) by changing “Turkey” to “Turkiye,” which is the official short name for the Republic of Turkiye.

DATES: Effective January 22, 2023.

FOR FURTHER INFORMATION CONTACT: Dale Kennedy at 202-268-6592 or Kathy Frigo at 202-268-4178.

SUPPLEMENTARY INFORMATION:

I. Proposed Rule and Response

On October 7, 2022, the Postal Service filed a notice with the PRC in Docket No. R2023-1 of mailing services price adjustments to be effective on January 22, 2023. On October 28, 2022, USPS® published a notification of proposed price changes in the Federal Register entitled “International Mailing Services: Proposed Price Changes” (87 FR 65181). The notification included price changes that the Postal Service would adopt for services covered by Mailing Standards of the United States Postal Service, International Mail Manual (IMM®) and publish in Notice 123, Price List, on Postal Explorer® at pe.usps.com. In addition, the notification included an update to country names throughout mailing standards, changing “Turkey” to “Turkiye,” which is the official short name for Republic of Turkiye. The Postal Service received no comments.

II. Order of the Postal Regulatory Commission

In PRC Order No. 6341 issued on November 28, 2022, in PRC Docket No. R2023-1, the PRC concluded that the prices in the Postal Service's notice in Docket No. R2023-1 may go into effect on January 22, 2023, and favorably reviewed the replacement of the country name of “Turkey” with “Turkiye.” The new prices will accordingly be posted in Notice 123, Price List, on Postal Explorer at pe.usps.com, and the changes to the IMM will accordingly be posted in a future update of the IMM on Postal Explorer at pe.usps.com.

III. Summary of Changes

First-Class Mail International®

The price for a single-piece postal will be $1.45 worldwide. The First-Class Mail International (FCMI) letter nonmachinable surcharge will increase to $0.40. The FCMI single-piece letter and flat prices will be as follows:

Letters
Weight not over (oz.) | Price groups: 1 | Price groups: 2 | Price groups: 3-5 | Price groups: 6-9
1 | $1.45 | $1.45 | $1.45 | $1.45
2 | 1.45 | 2.19 | 2.71 | 2.51
3 | 2.05 | 2.90 | 3.96 | 3.57
3.5 | 2.65 | 3.63 | 5.22 | 4.62

Flats
Weight not over (oz.) | Price groups: 1 | Price groups: 2 | Price groups: 3-5 | Price groups: 6-9
1 | $2.90 | $2.90 | $2.90 | $2.90
2 | 3.15 | 3.74 | 4.06 | 4.00
3 | 3.42 | 4.58 | 5.23 | 5.11
4 | 3.66 | 5.44 | 6.43 | 6.22
5 | 3.93 | 6.29 | 7.60 | 7.33
6 | 4.19 | 7.13 | 8.78 | 8.46
7 | 4.46 | 8.00 | 9.96 | 9.56
8 | 4.72 | 8.84 | 11.13 | 10.67
12 | 6.03 | 10.67 | 13.50 | 12.98
15.994 | 7.33 | 12.51 | 15.86 | 15.27

International Extra Services and Fees

The Postal Service will increase prices for certain market dominant international extra services as noted:

• Certificate of Mailing service: Fees for certificate of mailing service for First-Class Mail International will increase as follows:

Certificate of Mailing
| Fee
Individual pieces:
Individual article (PS Form 3817), First-Class Mail International only | $1.85
Duplicate copy of PS Form 3817 or PS Form 3665 (per page), First-Class Mail International only | 1.85
Firm mailing sheet (PS Form 3665), per piece (minimum 3), First-Class Mail International only | 0.54
Bulk quantities: |
For first 1,000 pieces (or fraction thereof), First-Class Mail International only | 10.40
Each additional 1,000 pieces (or fraction thereof), First-Class Mail International only | 1.35
Duplicate copy of PS Form 3606, First-Class Mail International only | 1.85

• Registered Mail® service: The price for international Registered Mail service for First-Class Mail International will increase to $19.05.

• Return Receipt service: The price for international return receipt service for First-Class Mail International will increase to $5.30

• Customs Clearance and Delivery Fee: The Customs Clearance and Delivery fee per dutiable item for Inbound Letter Post letters and flats will increase to $7.85.

• International Business Reply™ service (IBRS): The price for IBRS cards will increase to $2.00, and the price for IBRS envelopes (up to 2 ounces) will increase to $2.50.

New prices will be listed in the updated Notice 123, Price List.

Ruth B. Stevenson
Chief Counsel, Ethics and Legal Compliance.

[FR Doc. 2022-27322 Filed 12-15-22; 8:45 am]

BILLING CODE 7710-12-P